FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than April 25, 2024.

A. Federal Reserve Bank of Chicago (Colette A. Fried, Assistant Vice President) 230 South LaSalle Street, Chicago, Illinois 60690-1414. Comments can also be sent electronically to Comments.applications@chi.frb.org:

1. The William H. Bosshard Family GST Trust dated December 12, 2023, La Crosse, Wisconsin, Andrew R. Bosshard, La Crosse, Wisconsin, and Joseph W. Bosshard, Boulder, Colorado, as co-trustees, to join the Bosshard Family Group, a group acting in concert; to acquire voting shares of Mauston Bancorp, Inc., La Crosse, Wisconsin, and thereby indirectly acquire voting shares of Bank of Mauston, Mauston, Wisconsin.

B. Federal Reserve Bank of Minneapolis (Stephanie Weber, Assistant Vice President) 90 Hennepin Avenue, Minneapolis, Minnesota 55480-0291. Comments may also be sent electronically to MA@mpls.frb.org:

1. The William H. Bosshard Family GST Trust dated December 12, 2023, La Crosse, Wisconsin, Andrew R. Bosshard, La Crosse, Wisconsin, and Joseph W. Bosshard, Boulder, Colorado, as co-trustees, to join the Bosshard Family Group, a group acting in concert; to acquire voting shares of Clayton Bankshares, Inc., La Crosse, Wisconsin and thereby indirectly acquire voting shares of Citizens State Bank—La Crosse, La Crosse, Wisconsin. Co-trustee Andrew R. Bosshard was previously permitted by the Federal Reserve System to join the Bosshard Family Group with regard to control of the voting shares of Clayton Bankshares, Inc., and Citizens State Bank—La Crosse in the capacity as trust protector of the Bosshard Bank Trust.

Board of Governors of the Federal Reserve System.
Michele Taylor Fennell,
Deputy Associate Secretary of the Board.

[FR Doc. 2024-07618 Filed 4-9-24; 8:45 am]

BILLING CODE P